DEPARTMENT OF THE INTERIOR

National Park Service

[NPS-WASO-NAGPRA-NPS0032769; PPWOCRADN0-PCU00RP14.R50000]

Notice of Inventory Completion: American University, Department of Anthropology, Washington, DC

AGENCY: National Park Service, Interior.

ACTION: Notice.

SUMMARY: The Department of Anthropology, American University has completed an inventory of human remains, in consultation with the appropriate Indian Tribes or Native Hawaiian organizations, and determined that there is a cultural affiliation between the human remains and present-day Indian Tribes or Native Hawaiian organizations. Lineal descendants or representatives of any Indian Tribe or Native Hawaiian organization not identified in this notice that wish to request transfer of control of these human remains should submit a written request to the Department of Anthropology at American University. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the address in this notice by November 18, 2021.

FOR FURTHER INFORMATION: Rachel Watkins, Department of Anthropology, American University, 4400 Massachusetts Avenue NW, Washington, DC 20016, telephone (202) 531-5974, email watkins@american.edu. Due to covid restrictions on university mail, requests should be sent to the email included in this notice.

SUPPLEMENTARY INFORMATION: Notice is here given in accordance with the Native American Graves Protection and Repatriation Act (NAGPRA), 25 U.S.C. 3003, of the completion of an inventory of human remains under the control of American University, Department of Anthropology, Washington, DC. The human remains were removed from Bison, Perkins County, SD.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

An assessment of the human remains was made by the Department of Anthropology, American University professional staff in consultation with representatives of the Three Affiliated Tribes of the Fort Berthold Reservation, North Dakota.

History and Description of the Remains

In 1958, human remains representing, at minimum, eight individuals, were removed from Site 39SL4 (known as the Sully site) in Bison, Perkins County, SD. The circumstances under which these human remains came to be in the possession of the Department of Anthropology at American University is unknown, but they may have been excavated by archeologist Charles McNutt (1928-2017). As a doctoral student, McNutt worked for a period on the Missouri River Basin Project that involved excavation of the Sully Site. The human remains belong to eight individuals of unknown sex and age. No known individuals were identified. No associated funerary objects are present.

The Sully site is considered to have been the largest earthlodge village in the Middle Missouri subarea. It was occupied from about A.D. 1550 to 1725 and is identified as the likely location of an Arikara village.

Determinations Made by the Department of Anthropology, American University

Officials in the Department of Anthropology, American University, have determined that:

• Pursuant to 25 U.S.C. 3001(9), the human remains described in this notice represent the physical remains of eight individuals of Native American ancestry.

• Pursuant to 25 U.S.C. 3001(2), there is a relationship of shared group identity that can be reasonably traced between the Native American human remains and the Three Affiliated Tribes of the Fort Berthold Reservation, North Dakota.

Additional Requestors and Disposition

Lineal descendants or representatives of any Indian Tribe or Native Hawaiian organization not identified in this notice that wish to request transfer of control of these human remains should submit a written request with information in support of the request to Rachel Watkins, Department of Anthropology, American University, 4400 Massachusetts Avenue NW, Washington, DC 20016 telephone (202) 531-5974, email watkins@american.edu by November 18, 2021. After that date, if no additional requestors have come forward, transfer of control of the human remains to the Three Affiliated Tribes of the Fort Berthold Reservation, North Dakota may proceed.

The Department of Anthropology, American University is responsible for notifying the Three Affiliated Tribes of the Fort Berthold Reservation, North Dakota, that this notice has been published.

Dated: October 6, 2021.
Melanie O'Brien,
Manager, National NAGPRA Program.

[FR Doc. 2021-22742 Filed 10-18-21; 8:45 am]

BILLING CODE 4312-52-P